DEPARTMENT OF THE TREASURY

United States Mint

Establish Prices for 2026 United States Mint Precious Metal Products

AGENCY: United States Mint, Department of the Treasury.

ACTION: Notice.

SUMMARY: The United States Mint is announcing an update to its Numismatic Pricing Grid, which includes expanded ranges for Gold, Palladium, and Platinum and adding pricing for the Best of the Mint products.

An excerpt of the grid appears below:

The complete 2026 Pricing of Numismatic Gold, Commemorative Gold, Palladium, and Platinum Products Grid will be available at United States Mint Pricing Grid.

Pricing can vary weekly dependent upon the London Bullion Market Association (LBMA) gold price weekly average. The pricing for all United States Mint numismatic gold, palladium, and platinum products is evaluated every Wednesday and modified, as necessary.

FOR FURTHER INFORMATION CONTACT: Derrick Griffin; United States Mint; 801 9th Street NW; Washington, DC 20220; or call (202) 354-7579.

Authority: 31 U.S.C. 5112 (i)(4)(C).

Eric Anderson,
Executive Secretary, United States Mint.

[FR Doc. 2026-03952 Filed 2-26-26; 8:45 am]

BILLING CODE 4810-37-P